DEPARTMENT OF AGRICULTURE

Forest Service

Crooked Creek Reservoir Repair; White River National Forest, Eagle County, CO

AGENCY: Forest Service, USDA.

ACTION: Notice of intent to prepare an environmental impact statement.

SUMMARY: The White River National Forest will prepare an environmental impact statement (EIS) to disclose the environmental effects of repairing the Crooked Creek Reservoir, Saffeels Ditch, and other associated activities in the project area.

DATES: Comments concerning the scope of the analysis should be received by May 30, 2008. The draft EIS is expected in July 2008 and the final EIS is expected in September 2008.

ADDRESSES: Send written comments to Ronald R. Mobley, White River National Forest Supervisors Office, PO Box 948, Glenwood Springs, CO 81602-0948, Fax: (970) 945-3288, E-mail: wrnf_scoping_comments@fs.fed.us. Please include “Crooked Creek Reservoir Repairs” in the subject line.

FOR FURTHER INFORMATION CONTACT: Ronald R. Mobley, Civil Engineer, White River National Forest, 900 Grand Avenue, Glenwood Springs, CO 81602, (970) 945-3268.

SUPPLEMENTARY INFORMATION: Crooked Creek Reservoir (CCR) and the Saffeels Ditch (SD) are located approximately 23 miles south east of Eagle, Colorado on the Aspen-Sopris Ranger District of the White River National Forest. In September of 2005, a sinkhole was discovered on the crest/upstream interface of Crooked Creek dam. The crest of the dam is used as a portion of Eagle/Thomasville Road (National Forest System Road (NFSR) 400). The sinkhole was directly above the primary spillway culvert and within the travel lane across the crest of the dam, posing a threat to the health and safety of the public. A temporary fix was performed in 2006 to mitigate the immediate health and safety threat.

Additionally, the reservoir's emergency spillway is a shallow drainage channel leading to a 48-inch by 60-inch culvert that crosses under NFSR 400. The culvert shows signs of major deterioration and poses a health and safety risk if it were to fail. Meanwhile, heavy vegetation restricts the flow of water through the emergency spillway. Also, approximately 400 feet of dam toe-drain-pipe was originally installed incorrectly and now poses a threat to the integrity of the dam.

Finally, the SD (which is east and north of the CCR) and associated water rights were acquired by the Forest Service in 1994. Since that time minimal work has been performed on the SD limiting the options for using the associated water rights.

Purpose and Need for Action

The purpose of this project is to repair the Crooked Creek Reservoir (CCR) spillways, a portion of the CCR's toe-drain pipe and the Saffeels Ditch (SD). Additionally, there is an opportunity to address the following needs within the same geographic location:

• Allow the Agency to store its decreed water rights (approximately 211 acre-feet) from Crooked Creek, Middle Creek and Little Lime Creek in CCR;

• Determine how to use one (1) cubic foot per second (cfs) of water from the SD;

• Reclaim the CCR borrow area;

• Reduce impacts from beaver activity at the CCR primary spiliway culvert and culverts on NSFR 400 and NFSR 507;

• Maintain or improve wetland functions in the area;

• Enhance wildlife and fish habitat around CCR;

• Manage recreation use at CCR.

Proposed Action

To meet the purpose and need of repairing the Crooked Creek Reservoir and Saffeels Ditch, and to address associated opportunities, the following actions are proposed:

• Remove the existing primary spillway pipe and construct a new outlet system, which would consist of a new primary spillway pipe, new concrete drop inlet structure with a head gate control mechanism, and an adequate discharge basin. The new outlet system may allow the storage capacity of CCR to increase from 50 acre-feet of water to approximately 211 acre-feet;

• Remove and replace the toe-drain pipe;

• Remove and replace the existing pipe that is connected to the emergency spillway;

• Excavate the emergency spillway channel to remove vegetation that is impeding water flow and place riprap in the channel to prevent erosion;

• Create a beaver deceiver at the primary spillway culvert to prevent beaver from impeding the spillway water flow;

• Create beaver deceivers where Little Lime Creek and Crooked Creek cross NFSR 400 and where Lime Creek crosses NSFR 507 to reduce roadway erosion;

• Alter the ponds upstream from CCR to improve wetland functions;

• Develop wildlife and fish habitat by transplanting aquatic and riparian vegetation;

• Create nest and perch structures by knocking off the tops of select conifer trees, and mounding soil within the reservoir;

• Construct viewing platforms, signs, parking areas, trails, and designated camping areas.

Possible Alternatives

As required by the NEPA, the Forest Service will also analyze the effects of “No Action,” which includes not implementing the repairs to the Crooked Creek Reservoir and Safeels Ditch and associated opportunities. The development of any other alternatives will be completed following public response to scoping and published in the draft EIS.

Responsible Official

The responsible official for this project is the Aspen-Sopris District Ranger located at 620 Main Street, Carbondale, CO 81623.

Nature of Decision To Be Made

Given the purpose and need, the responsible official will review the proposed action and any alternatives developed in order to answer the following questions:

• Should the Forest Service repair the CCR spillways and toe-drain pipe? If so, when?

• Should the Forest Service repair SD? If so, when?

• How should the Forest Service use the one (1) cfs of water from the SD?

• Should the Forest Service raise the water level of CCR? If so, how much?

• Should the Forest Service implement any of the opportunities associated with repairs to CCR? If so, which opportunities and when?

• What mitigation, if any, is necessary?

Scoping Process

Scoping is an ongoing activity throughout the planning process. An important part of scoping is identification of public concerns and/or unresolved issues. A copy of this Notice of Intent will be mailed to people and organizations on the White River National Forest's mailing list that have indicated a specific interest in the area around Crooked Creek Reservoir. The public will be notified of any meetings regarding this proposal by mailings and or press releases sent to applicable newspapers and other media. At this time there are not any meetings planned for this proposed action.

Preliminary Issues

The following issues related to the proposed action have been identified:

• Raising the water level may increase the dam hazard rating. While repairing the dam may reduce the probability of a failure, the downstream impact of a failure may increase. A dam failure could impact NFSR 400, NFSR 105 and a residence located at the confluence of Lime Creek and the Frying Pan River.

• Raising the water level of the reservoir may impact historical and cultural resources and wetlands in the geographic area.

Permits or Licenses Required

The Forest Service will need to obtain a 404 Permit. Section 404 of the Clean Water Act requires approval by the Army Corps of Engineers prior to the construction of dams and weirs, riprap placement and road fills in order to protect the nation's waterways.

Comment Requested

This notice of intent initiates the scoping process under NIEPA, which guides the development of the EIS. Comments concerning the scope of this project should be received on or before May 30, 2008. The forest's desire is to receive comments on the merits of the Proposed Action, as well as comments that address errors, misinformation, or information that has been omitted. Comments should have a direct relationship to the proposal and include supporting reasons for the Responsible Official's consideration.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewers position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: April 18, 2008.
Irene L. Davidson,
District Ranger.

[FR Doc. E8-9581 Filed 5-1-08; 8:45 am]

BILLING CODE 3410-11-M